DEPARTMENT OF HEALTH AND HUMAN SERVICES

Administration for Children and Families

[CFDA Number: 93.676]

Announcement of Intent To Solicit and Issue One OPDIV-Initiated Supplement to Lutheran Immigration and Refugee Service, Inc. Under the Standing Announcement for Residential (Shelter) Services for Unaccompanied Children, HHS-2017-ACF-ORR-ZU-1132

AGENCY: Unaccompanied Alien Children (UAC) Program, Office of Refugee Resettlement (ORR), Administration for Children and Families (ACF), U.S. Department of Health and Human Services (HHS).

ACTION: Notice of solicitation and intent to issue of one OPDIV-Initiated Supplement to Lutheran Immigration and Refugee Service, Inc., Baltimore, MD under the UAC Program.

SUMMARY: ACF, ORR announces the solicitation and intent to issue one OPDIV-Initiated Supplement to Lutheran Immigration and Refugee Service, Inc., Baltimore, MD in an amount not to exceed $1,000,000.

ORR has been identifying additional capacity for fingerprinting services for an expected increase in the number of sponsors (parents, guardians, or family friends to whom the UAC will be released) who will need to be fingerprinted. Planning for increased fingerprinting capacity is a prudent step to ensure that ORR is able to meet its responsibility, by law, to ensure that the sponsor has not engaged in any activity that would indicate a potential risk to the UAC.

DATES: Supplemental award funds will support activities for up to eight months after award.

FOR FURTHER INFORMATION CONTACT: Jallyn Sualog, Director, Division of Unaccompanied Children Operations, Office of Refugee Resettlement, 330 C Street SW, Washington, DC 20201. Telephone: 202-401-4997; email: jallyn.sualog@acf.hhs.gov.

SUPPLEMENTARY INFORMATION: ORR is continuously monitoring its capacity to provide fingerprinting services to the sponsors of UAC referred to HHS, as well as the information received from interagency partners, to inform any future decisions or actions.

ORR has specific requirements for the provision of services. Award recipients must have the infrastructure, licensing, experience, and appropriate level of trained staff to meet those requirements. The expansion of the existing program and its services through this supplemental award is a key strategy for ORR to be prepared to meet its responsibility to provide fingerprinting services to the sponsors of UAC referred to its care by DHS.

ORR plans to solicit an application from Lutheran Immigration and Refugee Service, Inc., Baltimore, MD to meet the fingerprinting needs. If the application received a favorable objective review, ORR intends to issue a supplement in the amount up to $1,000,000.

Statutory Authority: This program is authorized by—

(A) Section 462 of the Homeland Security Act of 2002, which in March 2003, transferred responsibility for the care and custody of Unaccompanied Alien Children from the Commissioner of the former Immigration and Naturalization Service (INS) to the Director of ORR of the Department of Health and Human Services (HHS).

(B) The Flores Settlement Agreement, Case No. CV85-4544RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Elizabeth Leo,
Grants Policy Specialist, Division of Grants Policy, Office of Administration.

[FR Doc. 2018-18230 Filed 8-22-18; 8:45 am]

BILLING CODE 4184-01-P